Title 3—

The President

Proclamation 10275 of October 1, 2021

Fire Prevention Week, 2021

By the President of the United States of America

A Proclamation

During Fire Prevention Week, we honor our brave firefighters and first responders who risk their lives to protect us every day and reaffirm the importance of fire safety and preparedness. This week, I call on all Americans to educate themselves about fire prevention and safety and recommit to taking the necessary steps to prevent fires. Whether you are in your own home or camping in one of America's majestic National Parks, taking the proper precautions and safety measures can help prevent fires and save your life and the lives of your family and others while protecting our natural wonders.

Already this year, more than 44,000 wildfires have burned nearly 5.3 million acres of our land—an area roughly the size of the State of New Jersey. These fires have destroyed homes and priceless memories. They have forced families into shelters and filled the air with smoke for hundreds of miles. Precious lives have been lost. The fires have ground local economies to a halt, swallowed up family farms, and disrupted supply chains that fuel jobs, businesses, and communities all across the country.

These fires represent a code red for our Nation—and we know that, unless we take bold action to address climate change, they will only continue to gain in frequency and ferocity. Scientists have warned us for years that extreme weather will only get more extreme, and today we are living it in real time. Extreme weather, including wildfires, cost America $99 billion last year; unfortunately, we are poised to break that record this year.

That is why my Administration is committed to taking on the threat of climate change and investing in America's resilience. We have proposed investing billions of dollars to strengthen our wildfire preparedness, resilience, and response. These investments will not just save lives and homes—they will also save industries and create new jobs. When I think about climate change, I always think about the millions of good-paying, union jobs we can create—but we also need to think about all of the jobs and industries we stand to lose if we fail to act boldly enough. The evidence is overwhelming that every dollar we invest in our resilience saves us six dollars down the road, when the next fire does not spread as widely and homes and businesses are spared.

Our response to this threat starts with our brave firefighters, who put their lives on the line every day. To better support the wildland firefighters who serve our Nation so courageously, my Administration is committed to making sure that we have enough firefighters on call who are trained, equipped, and ready to respond. That is why I took action this summer to ensure that all of our Federal firefighters will earn a minimum of $15 an hour. My Administration has increased wildland firefighter pay through bonuses and retention pay, extended seasonal firefighter employment to ensure robust response throughout the fire season, deployed new fire detection and air monitoring technologies, invoked the Defense Production Act to increase the supply of equipment, and brought additional aircraft and personnel to bear from both the Department of Defense and our partner nations.

During Fire Prevention Week, I call on all Americans to educate themselves about fire safety, take the appropriate precautions when encountering fires, and honor our courageous firefighters, volunteers, and first responders. I also encourage everyone to install and maintain smoke alarms in their homes—critical elements of fire safety that have helped significantly decrease United States home fire death rates over the past 40 years. By testing alarms every month and replacing them every 10 years, we can be better prepared to respond quickly to fires and prevent tragic loss of life.

NOW, THEREFORE, I, JOSEPH R. BIDEN JR., President of the United States of America, by virtue of the authority vested in me by the Constitution and the laws of the United States, do hereby proclaim October 3 through October 9, 2021, as Fire Prevention Week. On Sunday, October 3, 2021, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this first day of October, in the year of our Lord two thousand twenty-one, and of the Independence of the United States of America the two hundred and forty-sixth.

[FR Doc. 2021-21949

Filed 10-5-21; 8:45 am]

Billing code 3395-F2-P